DEPARTMENT OF HEALTH AND HUMAN SERVICES

Health Resources and Services Administration

Part C HIV Early Intervention Services Grant

AGENCY: Health Resources and Services Administration (HRSA), HHS.

ACTION: Notice of Noncompetitive Program Expansion Supplemental Award.

SUMMARY: HRSA will be providing temporary critical HIV medical care and treatment services through Chase Brexton Health Services to avoid a disruption of HIV clinical care to homeless populations in the Baltimore, Maryland, area.

SUPPLEMENTARY INFORMATION: Intended Recipient of the Award: Chase Brexton Health Services, Baltimore, Maryland.

Amount of the Award: $73,125 (initial three month supplement) and $300,000 (anticipated second 12 month supplement) to ensure ongoing clinical services to the target population.

Authority: Section 2651 of the Public Health Service Act, 42 U.S.C. 300ff-51.

CFDA Number: 93.918.

Project Period: The first period of supplemental support is from September 30, 2007, through December 31, 2007. The anticipated second period of supplemental support will be January 1, 2008, through December 31, 2008.

FOR FURTHER INFORMATION CONTACT: Maria Rios, M.D, via e-mail: mrios@hrsa.gov, or via telephone: 301-443-0493.

Justification for the Exception to Competition

Funding critical HIV medical care and treatment services for homeless populations in Baltimore, MD area will be continued through a noncompetitive program expansion supplement to an existing grant award to Chase Brexton Health Services. This is a temporary award made because the previous grant recipient servicing this population is unable to satisfactorily meet legislative and program requirements. Chase Brexton, a currently funded Ryan White HIV/AIDS Program Part C grantee, is the best qualified and geographically positioned grantee able to provide the necessary continuity of HIV care and treatment for the targeted population. The initial supplemental funding will provide support for three months. Based on satisfactory performance, continued need, and availability of funds, a second and final supplemental award for these services will be awarded for twelve months. Further funding beyond December 31, 2008, for this service area will be competitively awarded during the next Part C HIV Early Intervention Services (EIS) competing application process. The next available Part C EIS open competing cycle will occur in fiscal year 2009.

Dated: December 7, 2007.
Elizabeth M. Duke,
Administrator.

[FR Doc. E7-24437 Filed 12-14-07; 8:45 am]

BILLING CODE 4165-15-P